FEDERAL COMMUNICATIONS COMMISSION

Public Information Collection(s) Requirement Submitted to OMB for Emergency Review and Approval

July 22, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 27, 2003. If you anticipate that you will be submitting comments, but find it difficult to do so within the period of time allowed by this notice, you should advise the contacts listed below as soon as possible.

ADDRESSES: Direct all PRA comments to Kim A. Johnson, Office of Management and Budget, Room 10236 NEOB, Washington, DC 20503, (202) 395-7232, or via fax at 202-395-5167 or via Internet at Kim_A._Johnson@omb.eop.gov, and Judith B. Herman, Federal Communications Commission, Room 1-C804, 445 12th Street, SW., Washington, DC 20554 or via Internet to Judith-B.Herman@fcc.gov.

FOR FURTHER INFORMATION CONTACT: For additional information or copies of the information collections contact Judith B. Herman at 202-418-0214 or via Internet at Judith-B.Herman@fcc.gov.

SUPPLEMENTARY INFORMATION: The Commission has requested emergency OMB review of this revised information collection with an approval by July 30, 2003.

OMB Control Number: 3060-1004.

Title: Wireless Telecommunications Bureau Standardizes Carrier Reporting on Wireless E911 Implementation.

Form No.: N/A.

Type of Review: Revision of a currently approved collection.

Respondents: Business or other for-profit, not-for-profit institutions, and state, local, or tribal government.

Number of Respondents: 303 respondents; 1,212 responses.

Estimated Time Per Response: 4-5 hours.

Frequency of Response: Quarterly, semi-annual and one-time reporting requirements, recordkeeping requirement, and third party disclosure requirement.

Total Annual Burden: 1,282 hours.

Total Annual Cost: N/A.

Needs and Uses: The Wireless Telecommunications Bureau takes steps to facilitate more uniform reporting of wireless Enhanced 911 (E911) deployment, in order to foster greater coordination and collaboration among various stakeholders in the implementation process. The Bureau has established a format in an Excel spreadsheet to be submitted with the wireless carrier E911 deployment quarterly reports required by the Commission. The next quarterly report is to be filed on August 1, 2003. This information was announced in a Public Notice dated June 6, 2003, DA03-1902.

Federal Communications Commisssion.
William F. Caton,
Deputy Secretary.

[FR Doc. 03-19135 Filed 7-25-03; 8:45 am]

BILLING CODE 6712-01-P